DEPARTMENT OF THE INTERIOR

Bureau of Land Management

[CA-310-0777-XG]

Notice of Resource Advisory Council Vacancy

AGENCY: Bureau of Land Management; Northeast California Resource Advisory Council; Susanville, California.

ACTION: Notice of vacancy and call for nominations.

SUMMARY: Pursuant to authorities in the Federal Advisory Committees Act (Pub. L. 92-463) and the Federal Land Policy and Management Act (Pub. L. 94-579), the U. S. Bureau of Land Management is seeking nominations to fill a vacant seat on the Northeast California Resource Advisory Council. The person selected to fill the vacancy will complete an unexpired term that ends in September 2004. The appointee will be eligible to compete for the full three-year term when the current term expires.

SUPPLEMENTARY INFORMATION: The council vacancy is in membership category three: persons representing issues and concerns of Native American Tribes. The appointment will be made by the Secretary of the Interior, as are all BLM Resource Advisory Council appointments. The person selected must have knowledge or experience in the interest area specified, and must have knowledge of the geographic area under the council's purview (the northeast portion of California and the northwest corner of Nevada).

Qualified applicants must have demonstrated a commitment to collaborate with varied interests to solve a broad spectrum of natural resource issues.

Nomination forms are available by contacting BLM Public Affairs Officer Joseph J. Fontana, 2950 Riverside Drive, Susanville, CA 96130; by telephone (530) 252-5332; or e-mail, jfontana@ca.blm.gov. Nominations must be returned to: Bureau of Land Management, 2950 Riverside Drive, Susanville, CA 96130, Attention Public Affairs Officer by February 24, 2003. Individuals can nominate themselves, or interest groups can submit nominations. Nominations must include letters of support from the interest groups the nominee will represent.

FOR ADDITIONAL INFORMATION: Contact BLM Alturas Field Manager Tim Burke at (530) 233-4666, or Public Affairs Officer Joseph J. Fontana at the above phone or e-mail address.

Joseph J. Fontana,
Public Affairs Officer.

[FR Doc. 03-1660 Filed 1-23-03; 8:45 am]

BILLING CODE 4310-40-P